SMALL BUSINESS ADMINISTRATION

[Declaration of Disaster #3632]

Commonwealth of Pennsylvania; Amendment #2

In accordance with a notice received from the Department of Homeland Security—Federal Emergency Management Agency—effective September 22, 2004, the above numbered declaration is hereby amended to include Franklin, Lebanon, Montour, Tioga, and York counties as disaster areas due to damages caused by Tropical Depression Ivan occurring on September 17, 2004 and continuing.

In addition, applications for economic injury loans from small businesses located in the contiguous county of Steuben in the State of New York; and Baltimore, Carroll, Frederick, and Harford Counties in the State of Maryland may be filed until the specified date at the previously designated location. All other counties contiguous to the above named primary counties have previously been declared.

All other information remains the same, i.e., the deadline for filing applications for physical damage is November 18, 2004 and for economic injury the deadline is June 20, 2005.

(Catalog of Federal Domestic Assistance Program Nos. 59002 and 59008).

Dated: September 27, 2004.
Herbert L. Mitchell,
Associate Administrator for Disaster Assistance.

[FR Doc. 04-22288 Filed 10-4-04; 8:45 am]

BILLING CODE 8025-01-P